DEPARTMENT OF COMMERCE

National Oceanic and Atmospheric Administration

[I.D. 041306D]

General Advisory Committee to the U.S. Section to the Inter-American Tropical Tuna Commission (IATTC); Public Meeting

AGENCY: National Marine Fisheries Service (NMFS), National Oceanic and Atmospheric Administration (NOAA), Commerce.

ACTION: Notice of a public meeting.

SUMMARY: NMFS announces the meeting of the General Advisory Committee to the U.S. Section to the IATTC.

DATES: The meeting of the General Advisory Committee will be held on June 1, 2006, from 9 a.m. to 5 p.m. Pacific Time (or until business is concluded).

ADDRESSES: The meeting will be held at NMFS, Southwest Regional Office, 501 West Ocean Boulevard, Suite 3400, Long Beach, CA 90803-4213.

FOR FURTHER INFORMATION CONTACT: J. Allison Routt at (562)980-4019 or (562) 980-4030.

SUPPLEMENTARY INFORMATION: In accordance with the Tuna Conventions Act, as amended, the Department of State has appointed a General Advisory Committee to the U.S. Section to the IATTC. The U.S. Section consists of the four U.S. Commissioners to the IATTC and the representative of the Deputy Assistant Secretary of State for Oceans and Fisheries. The Advisory Committee supports the work of the U.S. Section in a solely advisory capacity with respect to U.S. participation in the work of the IATTC, with particular reference to the development of policies and negotiating positions pursued at meetings of the IATTC. NMFS, Southwest Region, administers the Advisory Committee in cooperation with the Department of State.

The General Advisory Committee to the U.S. Section to the IATTC will meet to receive and discuss information on: (1) 2005 IATTC activities, (2) recent and upcoming meetings of the IATTC and its working groups, including issues on the agenda for the meeting such as conservation and management measures for yellowfin and bigeye tuna for 2006 and beyond, measures to be taken in cases of non-compliance with the IATTC's conservation and management measures, management of fishing capacity, measures to address bycatch and other issues, (3) status of the stocks and status of the fishery in 2005, (4) IATTC cooperation with other regional fishery management organizations, and (5) Advisory Committee operational issues including a discussion of future closed sessions of the General Advisory Committee.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting location is physically accessible to people with disabilities. Requests for sign language interpretation or other auxiliary aids should be directed to Allison Routt at (562) 980-4019 or (562) 980-4030 at least 10 days prior to the meeting date.

Dated: April 18, 2006.
Tracey L. Thompson,
Acting Director, Office of Sustainable Fisheries, National Marine Fisheries Service.

[FR Doc. E6-5999 Filed 4-20-06; 8:45 am]

BILLING CODE 3510-22-S